DEPARTMENT OF EDUCATION

Notice of Proposed Information Collection Requests

AGENCY: Department of Education.

ACTION: Correction Notice.

SUMMARY: On May 20, 2004, the Department of Education published a notice in the Federal Register (Page 29130, Column 3) for the information collection, “Annual Performance Report Grants Under the Smaller Learning Communities Program”. The total annual hours is hereby corrected from 26,000 to 4,000. The Leader, Regulatory Information Management Group, Office of the Chief Information Officer, hereby issues a correction notice as required by the Paperwork Reduction Act of 1995.

Dated: May 26, 2004.
Angela C. Arrington,
Regulatory Information Management Group, Office of the Chief Information Officer.

[FR Doc. 04-12431 Filed 6-1-04; 8:45 am]

BILLING CODE 4000-01-P